COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products to the Procurement List that will be furnished by nonprofit agencies employing persons who are blind or have other severe disabilities.

DATES: Effective Date: 6/8/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 1/30/2015 (80 FR 5092-5093), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products:

Product Name/NSN(s): Bold Ballpoint Pen, SKILCRAFT, 1.4mm with Clip, Cushion Grip

7520-00-NIB-1969—Black Ink, Refillable

7520-00-NIB-1970—Blue Ink, Refillable

7520-00-NIB-1971—Red Ink, Refillable

Mandatory Purchase For: Total Government Requirement

Mandatory Source of Supply: Industries of the Blind, Inc., Greensboro, NC

Contracting Activity: General Services Administration

Distribution: A-List

Product Name/NSN(s): Plastic Point Stick Permanent Water Resistant Pens

7520-00-NIB-2284—Fine Point, Black Ink

7520-00-NIB-2285—Fine Point, Blue Ink

7520-00-NIB-2286—Fine Point, Red Ink

7520-00-NIB-2289—Medium Point, Black Ink

Distribution: A-List

7520-00-NIB-2290—Medium Point, Blue Ink

7520-00-NIB-2291—Medium Point, Red Ink

Distribution: B-List

Mandatory Purchase For: Total and Broad Government Requirement

Mandatory Source of Supply: Winston-Salem Industries for the Blind, Inc., Winston-Salem, NC

Contracting Activity: General Services Administration

Barry S. Lineback,
Director, Business Operations.

[FR Doc. 2015-11129 Filed 5-7-15; 8:45 am]

BILLING CODE 6353-01-P